DEPARTMENT OF HOMELAND SECURITY

Federal Emergency Management Agency

[Docket ID FEMA-2019-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management Department of Homeland Security, Federal Emergency Management Agency.

State and county | Location and case No. | Chief executive officer of community | Community map repository | Date of modification | Community No.
Alabama:
Montgomery (FEMA Docket No.: B-1904). | City of Montgomery (17-04-6774P). | The Honorable Todd Strange, Mayor, City of Montgomery, 103 North Perry Street, Montgomery, AL 36104. | Engineering Department, 25 Washington Avenue, Montgomery, AL 36104. | Apr. 25, 2019 | 010174
Shelby (FEMA Docket No.: B-1916) | City of Pelham (19-04-1376X). | The Honorable Gary W. Waters, Mayor, City of Pelham, 3162 Pelham Parkway, Pelham, AL 35124. | City Hall, 3162 Pelham Parkway, Pelham, AL 35124. | May 6, 2019 | 010193
Colorado:
Broomfield (FEMA Docket No.: B-1904) | City and County of Broomfield (18-08-0957P). | The Honorable Randy Ahrens, Mayor, City and County of Broomfield, 1 DesCombes Drive, Broomfield, CO 80020. | Engineering Department, 1 DesCombes Drive, Broomfield, CO 80020. | May 10, 2019 | 085073
Jefferson (FEMA Docket No.: B-1904) | City of Westminster (18-08-0957P). | The Honorable Herb Atchison, Mayor, City of Westminster, 4800 West 92nd Avenue, Westminster, CO 80031. | City Hall, 4800 West 92nd Avenue, Westminster, CO 80031. | May 10, 2019 | 080008
Jefferson (FEMA Docket No.: B-1904) | Unincorporated areas of Jefferson County (18-08-0875P). | The Honorable Casey Tighe, Chairman, Jefferson County Board of Commissioners, 100 Jefferson County Parkway, Suite 5550, Golden, CO 80419. | Jefferson County Department of Planning and Zoning, 100 Jefferson County Parkway, Suite 3550, Golden, CO 80419. | Apr. 26, 2019 | 080087
Florida:
Charlotte (FEMA Docket No.: B-1904) | Unincorporated areas of Charlotte County (18-04-6671P). | The Honorable Ken Doherty, Chairman, Charlotte County Board of Commissioners, 18500 Murdock Circle, Suite 536, Port Charlotte, FL 33948. | Charlotte County Department of Community Development, 18500 Murdock Circle, Port Charlotte, FL 33948. | Apr. 22, 2019 | 120061
Lee (FEMA Docket No.: B-1904) | Unincorporated areas of Lee County (18-04-7249P). | Mr. Roger Desjarlais, Manager, Lee County, 2120 Main Street, Fort Myers, FL 33901. | Lee County Building Department, 1500 Monroe Street, Fort Myers, FL 33901. | Apr. 25, 2019 | 125124
Sarasota (FEMA Docket No.: B-1904) | Unincorporated areas of Sarasota County (18-04-4837P). | The Honorable Nancy Detert, Chair, Sarasota County Board of Commissioners, 1660 Ringling Boulevard, Sarasota, FL 34236. | Sarasota County Planning and Development Services Department, 1001 Sarasota Center Boulevard, Sarasota, FL 34240. | May 3, 2019 | 125144
Louisiana: Ascension (FEMA Docket No.: B-1904) | Unincorporated areas of Ascension Parish (18-06-3150P). | The Honorable Kenny Matassa, Ascension Parish President, 615 East Worthey Road, Gonzales, LA 70737. | Ascension Parish Public Works Department, 615 East Worthey Road, Gonzales, LA 70737. | May 10, 2019 | 220013
Mississippi:
DeSoto (FEMA Docket No.: B-1904) | City of Hernando (18-04-4824P). | The Honorable N.C. Tom Ferguson, Mayor, City of Hernando, 475 West Commerce Street, Hernando, MS 38632. | Planning Department, 475 West Commerce Street, Hernando, MS 38632. | Apr. 26, 2019 | 280292
DeSoto (FEMA Docket No.: B-1904) | Unincorporated areas of DeSoto County (18-04-4824P). | The Honorable Michael Lee, Chairman, DeSoto County Board of Supervisors, 365 Losher Street, Suite 300, Hernando, MS 38632. | DeSoto County Planning Commission, 365 Losher Street, Hernando, MS 38632. | Apr. 26, 2019 | 280050
South Carolina: Charleston (FEMA Docket No.: B-1904) | City of Charleston (18-04-7585P). | The Honorable John J. Tecklenburg, Mayor, City of Charleston, 80 Broad Street, Charleston, SC 29401. | Public Services Department, 2 George Street, Suite 2100, Charleston, SC 29401. | May 13, 2019 | 455412
South Dakota:
Lincoln (FEMA Docket No.: B-1916) | Town of Tea (18-08-1197P). | The Honorable John Lawler, Mayor, Town of Tea, P.O. Box 128, Tea, SD 57064. | Town Hall, 600 East 1st Street, Tea, SD 57064. | May 13, 2019 | 460143
Lincoln (FEMA Docket No.: B-1916) | Unincorporated areas of Lincoln County (18-08-1197P). | The Honorable David Gillespie, Chairman, Lincoln County Board of Commissioners, 104 North Main Street, Canton, SD 57013. | Lincoln County GIS Department, 104 North Main Street, Canton, SD 57013. | May 13, 2019 | 460277
Texas:
Bexar (FEMA Docket No.: B-1917) | City of San Antonio (18-06-2159P). | The Honorable Ron Nirenberg, Mayor, City of San Antonio, P.O. Box 839966, San Antonio, TX 78283. | Transportation and Capitol Improvements Department, Storm Water Division, 1901 South Alamo Street, 2nd Floor, San Antonio, TX 78204. | May 13, 2019 | 480045
Bexar (FEMA Docket No.: B-1917) | City of San Antonio (18-06-2478P). | The Honorable Ron Nirenberg, Mayor, City of San Antonio, P.O. Box 839966, San Antonio, TX 78283. | Transportation and Capitol Improvements Department, Storm Water Division, 1901 South Alamo Street, 2nd Floor, San Antonio, TX 78204. | May 13, 2019 | 480045
Bexar (FEMA Docket No.: B-1917) | City of San Antonio (18-06-3206P). | The Honorable Ron Nirenberg, Mayor, City of San Antonio, P.O. Box 839966, San Antonio, TX 78283. | Transportation and Capitol Improvements Department, Storm Water Division, 1901 South Alamo Street, 2nd Floor, San Antonio, TX 78204. | Apr. 29, 2019 | 480045
Bexar (FEMA Docket No.: B-1917) | Unincorporated areas of Bexar County (18-06-3206P). | The Honorable Nelson W. Wolff, Bexar County Judge, 101 West Nueva Street, 10th Floor, San Antonio, TX 78205. | Bexar County Public Works Department, 233 North Pecos-La Trinidad Street, Suite 420, San Antonio, TX 78207. | Apr. 29, 2019 | 480035
Bexar (FEMA Docket No.: B-1904) | Unincorporated areas of Bexar County (18-06-3287P). | The Honorable Nelson W. Wolff, Bexar County Judge, 101 West Nueva Street, 10th Floor, San Antonio, TX 78205. | Bexar County Public Works Department, 233 North Pecos-La Trinidad Street, Suite 420, San Antonio, TX 78207. | Apr. 22, 2019 | 480035
Dallas (FEMA Docket No.: B-1917) | City of DeSoto (18-06-3315P). | The Honorable Curtistene Smith McCowan, Mayor, City of DeSoto, 211 East Pleasant Run Road, DeSoto, TX 75115. | Engineering Department, 211 East Pleasant Run Road, DeSoto, TX 75115. | May 3, 2019 | 480172
Dallas (FEMA Docket No.: B-1917) | City of Garland (18-06-2735P). | The Honorable Lori Barnett Dodson, Mayor, City of Garland, 200 North 5th Street, Garland, TX 75040. | City Hall, 800 Main Street, Garland, TX 75040. | May 13, 2019 | 485471
Denton (FEMA Docket No.: B-1904) | City of Aubrey (18-06-2849P). | The Honorable Janet Meyers, Mayor, City of Aubrey, 107 South Main Street, Aubrey, TX 76227. | City Hall, 107 South Main Street, Aubrey, TX 76227. | Apr. 29, 2019 | 480776
Harris (FEMA Docket No.: B-1904) | Unincorporated areas of Harris County (18-06-2511P). | The Honorable Edward Emmett, Harris County Judge, 1001 Preston Street, Suite 911, Houston, TX 77002. | Harris County Permit Department, 10555 Northwest Freeway, Suite 120, Houston, TX 77092. | May 13, 2019 | 480287
Kerr (FEMA Docket No.: B-1917) | City of Kerrville (18-06-2862P). | The Honorable Bill Blackburn, Mayor, City of Kerrville, 701 Main Street, Kerrville, TX 78028. | Engineering Department, 200 Sidney Baker Street, Kerrville, TX 78028. | May 13, 2019 | 480420
Tarrant (FEMA Docket No.: B-1928) | City of Fort Worth (18-06-2089P). | The Honorable Betsy Price, Mayor, City of Fort Worth, 200 Texas Street, Fort Worth, TX 76102. | Transportation and Public Works Department, 200 Texas Street, Fort Worth, TX 76102. | Apr. 11, 2019 | 480596
Travis (FEMA Docket No.: B-1904) | City of Austin (18-06-3308P). | Mr. Spencer Cronk, Manager, City of Austin, P.O. Box 1088, Austin, TX 78767. | Watershed Protection Department, 505 Barton Springs Road, Austin, TX 78704. | Apr. 29, 2019 | 480624
Travis (FEMA Docket No.: B-1904) | City of Pflugerville (18-06-2107P). | The Honorable Victor Gonzales, Mayor, City of Pflugerville, P.O. Box 589, Pflugerville, TX 78691. | Development Services Department, 201-B East Pecan Street, P.O. Box 589, Pflugerville, TX 78691. | May 6, 2019 | 481028
Travis (FEMA Docket No.: B-1904) | Unincorporated areas of Travis County (18-06-2107P). | The Honorable Sarah Eckhardt, Travis County Judge, 700 Lavaca Street, Suite 2300, Austin, TX 78701. | Travis County TNR, 700 Lavaca Street, 5th Floor, Austin, TX 78701. | May 6, 2019 | 481026
Webb (FEMA Docket No.: B-1917) | Unincorporated areas of Webb County (19-06-0140X). | The Honorable Tano E. Tijerina, Webb County Judge, 1000 Houston Street, 3rd Floor, Laredo, TX 78040. | Webb County Planning Department, 1110 Washington Street, Suite 302, Laredo, TX 78040. | Apr. 25, 2019 | 481059
Wilson (FEMA Docket No.: B-1904) | Unincorporated areas of Wilson County (18-06-3960P). | The Honorable Richard L. Jackson, Wilson County Judge, 1420 3rd Street, Suite 101, Floresville, TX 78114. | Wilson County Courthouse Annex II, 800 10th Street, Building B, Floresville, TX 78114. | May 2, 2019 | 480230
Virginia:
Prince William (FEMA Docket No.: B-1904) | City of Manassas (18-03-1933P). | Mr. William Patrick Pate, Manager, City of Manassas, 9027 Center Street, Manassas, VA 20110. | Engineering Department, 8500 Public Works Drive, Manassas, VA 20110. | Apr. 25, 2019 | 510122
Washington District of Columbia (FEMA Docket No.: B-1904) | District of Columbia (18-03-1305P). | The Honorable Muriel Bowser, Mayor, District of Columbia, 1350 Pennsylvania Avenue Northwest, Washington, DC 20004. | Department of Energy and Environment, 1200 1st Street Northeast, 5th Floor, Washington, DC 20002. | Apr. 29, 2019 | 110001

[FR Doc. 2019-14179 Filed 7-2-19; 8:45 am]

BILLING CODE 9111-12-P